DEPARTMENT OF TRANSPORTATION

Federal Aviation Administration

14 CFR Part 39

[Docket No. FAA-2022-0679; Project Identifier MCAI-2021-01213-T; Amendment 39-22392; AD 2023-06-06]

RIN 2120-AA64

Airworthiness Directives; MHI RJ Aviation ULC (Type Certificate Previously Held by Bombardier, Inc.) Airplanes; Correction

AGENCY: Federal Aviation Administration (FAA), DOT.

ACTION: Final rule; correction.

SUMMARY: The FAA is correcting an airworthiness directive (AD) that was published in the Federal Register. That AD applies to all MHI RJ Aviation ULC Model CL-600-2C10 (Regional Jet Series 700, 701 & 702) airplanes, Model CL-600-2C11 (Regional Jet Series 550) airplanes, Model CL-600-2D15 (Regional Jet Series 705) airplanes, Model CL-600-2D24 (Regional Jet Series 900) airplanes, and Model C-600-2E25 (Regional Jet Series 1000) airplanes. As published, a portion of the initial compliance time for doing the new ram-air valve task specified in the regulatory text for certain airplanes is incorrect. This document corrects that error. In all other respects, the original document remains the same.

DATES: This correction is effective April 28, 2023. The effective date of AD 2023-06-06 remains April 28, 2023.

ADDRESSES:

AD Docket: You may examine the AD docket at regulations.gov under Docket No. FAA-2022-0679; or in person at Docket Operations between 9 a.m. and 5 p.m., Monday through Friday, except Federal holidays. The AD docket contains this final rule; correction, the mandatory continuing airworthiness information (MCAI), any comments received, and other information. The address for Docket Operations is U.S. Department of Transportation, Docket Operations, M-30, West Building Ground Floor, Room W12-140, 1200 New Jersey Avenue SE, Washington, DC 20590.

FOR FURTHER INFORMATION CONTACT: Chirayu A. Gupta, Aerospace Engineer, Airframe and Propulsion Section, FAA, New York ACO Branch, 1600 Stewart Avenue, Suite 410, Westbury, NY 11590; telephone 516-228-7300; email 9-avs-nyaco-cos@faa.gov.

SUPPLEMENTARY INFORMATION:

Background

AD 2023-06-06, Amendment 39-22392 (88 FR 17682, March 24, 2023) (AD 2023-06-06), requires revising the existing maintenance or inspection program, as applicable, to incorporate two aircraft maintenance manual (AMM) tasks. That AD applies to all MHI RJ Aviation ULC Model CL-600-2C10 (Regional Jet Series 700, 701 & 702) airplanes, Model CL-600-2C11 (Regional Jet Series 550) airplanes, Model CL-600-2D15 (Regional Jet Series 705) airplanes, Model CL-600-2D24 (Regional Jet Series 900) airplanes, and Model CL-600-2E25 (Regional Jet Series 1000) airplanes.

Need for the Correction

As published, a portion of the initial compliance time specified in paragraph (g)(1)(ii) of AD 2023-06-06 is incorrect. The initial compliance time specified in paragraph (g)(1)(ii) of AD 2023-06-06 is within 90 days after the effective date of this AD or before accumulating 3,000 total flight hours, “whichever occurs later.” That compliance time should be within 90 days after the effective date of this AD or before accumulating 3,000 total flight hours, “whichever occurs first.” This is the compliance time provided in Transport Canada AD CF-2021-38R1, dated May 25, 2022, which the FAA intended to match.

Correction of Publication

This document corrects an error and correctly adds the AD as an amendment to 14 CFR 39.13. Although no other part of the preamble or regulatory information has been corrected, the FAA is publishing the entire rule in the Federal Register.

The effective date of this AD remains April 28, 2023.

Since this action only corrects a certain compliance time, it has no adverse economic impact and imposes no additional unforeseen burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

2023-06-06 MHI RJ Aviation ULC (Type Certificate Previously Held by Bombardier, Inc.): Amendment 39-22392; Docket No. FAA-2022-0679; Project Identifier MCAI-2021-01213-T.

(a) Effective Date

This airworthiness directive (AD) is effective April 28, 2023.

(b) Affected ADs

None.

(c) Applicability

This AD applies to all MHI RJ Aviation ULC airplanes, certificated in any category, identified in paragraphs (c)(1) through (5) of this AD.

(1) Model CL-600-2C10 (Regional Jet Series 700, 701 & 702) airplanes.

(2) Model CL-600-2C11 (Regional Jet Series 550) airplanes.

(3) Model CL-600-2D15 (Regional Jet Series 705) airplanes.

(4) Model CL-600-2D24 (Regional Jet Series 900) airplanes.

(5) Model CL-600-2E25 (Regional Jet Series 1000) airplanes.

(d) Subject

Air Transport Association (ATA) of America Code: 21, Air conditioning.

(e) Reason

This AD was prompted by a determination that the existing maintenance or inspection program, as applicable, must be revised to incorporate two aircraft maintenance manual (AMM) tasks. The FAA is issuing this AD to address in-service reports of emergency ram air valve part number (P/N) GG670-95019-1 stuck in closed or partially open positions, which, if not corrected could result in a complete loss of outside air supply, leading to an increase in flight deck and cabin temperatures and a possible increased level of contaminated air (carbon monoxide, carbon dioxide, or ozone).

(f) Compliance

Comply with this AD within the compliance times specified, unless already done.

(g) Maintenance or Inspection Program Revision

(1) Within 90 days after the effective date of this AD, revise the existing maintenance or inspection program, as applicable, to incorporate the information specified in figure 1 to the introductory text of paragraph (g)(1) of this AD. The initial compliance time for doing the task is at the applicable time specified in paragraph (g)(1)(i) or (ii) of this AD.

Figure 1 to the Introductory Text of Paragraph (g)(1)—AMM Task for the Ram-Air Valve

BILLING CODE 4910-13-P

(i) For airplanes that have accumulated less than 1,800 flight hours since the last operational check of the ram air shutoff valve was performed as specified in AMM Task 21-52-04-710-801-A01, and for airplanes that have accumulated less than 1,800 flight hours from the date of issuance of the original airworthiness certificate or original export certificate of airworthiness: Within 90 days after the effective date of this AD, or before accumulating 1,800 total flight hours, whichever occurs later.

(ii) For airplanes that have accumulated 1,800 flight hours or more since the last operational check of the ram air shutoff valve was performed as specified in AMM Task 21-52-04-710-801-A01, and for airplanes that have accumulated 1,800 flight hours or more since the date of issuance of the original airworthiness certificate or original export certificate of airworthiness and for which no operational check of the valve has been performed: Within 90 days after the effective date of this AD or before accumulating 3,000 total flight hours, whichever occurs first.

(2) Within 90 days after the effective date of this AD, revise the existing maintenance or inspection program, as applicable, to incorporate the information specified in figure 2 to the introductory text of paragraph (g)(2) of this AD. The initial compliance time for doing the task is at the applicable time specified in paragraph (g)(2)(i) or (ii) of this AD.

Figure 2 to the Introductory Text of Paragraph (g)(2)—AMM Task for the Pack Discharge and Ram-Air Supply Ducts

BILLING CODE 4910-13-C

(i) For airplanes that have accumulated less than 17,600 flight hours since the last detailed inspection of the pack discharge and ram air supply ducts was performed as specified in AMM Task 21-51-00-220-801-A01, and for airplanes that have accumulated less than 17,600 flight hours since the date of issuance of the original airworthiness certificate or original export certificate of airworthiness: Within 90 days after the effective date of this AD, or before accumulating 17,600 total flight hours, whichever occurs later.

(ii) For airplanes that have accumulated 17,600 flight hours or more since the last detailed inspection of the pack discharge and ram air supply ducts as specified in AMM Task 21-51-00-220-801-A01, and for airplanes that have accumulated 17,600 flight hours or more since the date of issuance of the original airworthiness certificate or original export certificate of airworthiness, and for which no detailed inspection of the pack discharge and ram air supply ducts has been performed: Within 90 days after the effective date of this AD.

(h) No Alternative Actions or Intervals

After the existing maintenance or inspection program has been revised as required by paragraph (g) of this AD, no alternative actions (e.g., inspections) or intervals may be used unless the actions and intervals are approved as an alternative method of compliance (AMOC) in accordance with the procedures specified in paragraph (i)(1) of this AD.

(i) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada; or MHI RJ Aviation ULC's Transport Canada Design Approval Organization (DAO). If approved by the DAO, the approval must include the DAO-authorized signature.

(j) Additional Information

(1) Refer to Transport Canada AD CF-2021-38R1, dated May 25, 2022, for related information. This Transport Canada AD may be found in the AD docket at regulations.gov under Docket No. FAA-2022-0679.

(2) For more information about this AD, contact Chirayu A. Gupta, Aerospace Engineer, Airframe and Propulsion Section, FAA, New York ACO Branch, 1600 Stewart Avenue, Suite 410, Westbury, NY 11590; telephone 516-228-7300; email 9-avs-nyaco-cos@faa.gov.

(k) Material Incorporated by Reference

None.

Issued on April 6, 2023.
Christina Underwood,
Acting Director, Compliance & Airworthiness Division, Aircraft Certification Service.

[FR Doc. 2023-07588 Filed 4-11-23; 8:45 am]

BILLING CODE 4910-13-P